SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or emailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Request for Waiver of Special Veterans Benefits (SVB) Overpayment Recovery or Change in Repayment Rate—20 CFR 408.900-408.950, 408.923(b), 408.931(b), 408.932(c), (d) and (e), 408.941(b) and 408.942—0960-0698. Title VIII allows the payment of a monthly benefit by the Commissioner of Social Security to a qualified World War II veteran who resides outside the United States. When an overpayment in SVB occurs, the beneficiary can use this form to request waiver of recovery of the overpayment or a change in the repayment rate. The SSA-2032-BK will be used to obtain the information necessary to determine whether the provisions of the Act regarding waiver of recovery of the overpayment are met. The information on the form is needed to determine a repayment rate if repayment cannot be waived. Respondents are beneficiaries who have overpayments on their Title VIII record and wish to file a claim for waiver of recovery or change in repayment rate.

Type of Request: Extension of an OMB-approved information collection.

Number of Respondents: 39.

Frequency of Response: 1.

Average Burden Per Response: 120 minutes.

Estimated Annual Burden: 78 hours.

2. Request for Medical Treatment in an SSA Employee Health Facility: Patient Self-Administered or Staff Administered Care—0960-NEW. SSA operates Employee Health Clinics on-site in eight different states. These clinics provide health care for all SSA employees including treatments of personal medical conditions when authorized through a physician. The SSA-5072 is the employee's personal physician's order form. The information collected on the SSA-5072 gives the nurses the guidance they need by law to perform certain medical procedures and to administer prescription medications such as allergy immunotherapy. Also, the information collected by the SSA-5072 allows the SSA Medical Officer to determine whether the treatment can be administered safely and appropriately in the SSA Employee Health Units.

Each state has a Nurse Practice Act governing the practice of registered nurses in the state. All Nurse Practice Acts require that registered nurses administer prescription medications and certain medical treatments by following a licensed physician's orders. Form SSA-5072 provides the vehicle for the physician to provide these orders to the SSA nursing staff. Respondents are physicians of SSA employees who need to have medical treatment in the SSA Employee Health Unit.

Type of Request: Information Collection in Use without an OMB Number.

Number of Responses: 175.

Estimated Annual Burden: 15 hours.

Medication dosage changes | Number of respondents | Frequency of response | Number of responses | Average burden per response (minutes) | Estimated annual burden (hours)
Annually | 25 | 1 | 25 | 5 | 2
Bi-Annually | 75 | 2 | 150 | 5 | 13
Totals | 100 |  | 175 |  | 15

3. Disability Hearing Officer's Report of Disability Hearing (DC)—20 CFR 416.1407—0906-0507. The information collected on form SSA-1204-BK is used by the Disability Hearing Officer (DHO) to conduct and document disability hearings, and to provide a structured format that covers all conceivable issues relating to Supplemental Security Income (SSI) claims for disabled children. The completed SSA-1204-BK will aid the DHO in preparing the disability decision and will provide a record of what transpired in the hearing. The respondents are DHO's in the State Disability Determination Services.

Type of Request: Extension of an OMB-approved information collection.

Number of Respondents: 2,000.

Frequency of Response: 1.

Average Burden per Response: 60 minutes.

Estimated Annual Burden: 2000 hours.

4. Medical Report (Individual with Childhood Impairment)—20 CFR 404.1512-404.1515, 416.912-416.915, & 20 CFR 422.125—0960-0102. The information collected from SSA-3827 is used by SSA to determine the childhood claimant's physical status prior to making a disability determination and to document the childhood disability claims folder with the medical evidence. The respondents are members of the medical community, and include physicians, hospital directors, medical records librarians, and other medical personnel.

Type of Request: Revision of an OMB-approved information collection

Number of Respondents: 12,000.

Frequency of Response: 1.

Average Burden per Response: 30 minutes.

Estimated Annual Burden: 6,000 hours.

II. The information collections listed below have been submitted to OMB for clearance. Your comments on the information collections would be most useful if received by OMB and SSA within 30 days from the date of this publication. You can obtain a copy of the OMB clearance packages by calling the SSA Reports Clearance Officer at 410-965-0454 or by writing to the address listed above.

1. National 800 Number—Claims Status—20 CFR 401.45-0960-NEW. SSA has established a process for authenticating the information of individuals who use the automated telephone services or speak to an agent to request information from SSA records. Prior to SSA responding to requests for personal information through the automated telephone services, we must authenticate the requester's information by obtaining the appropriate identification elements. This automated telephone service will provide callers with status of a Social Security claim which they have filed. All information provided will then be compared to the information contained in our records so that the appropriate claim is accessed and the respondent is given the status of that claim. Respondents are current Social Security beneficiaries.

Type of Request: Request for a new information collection.

Number of Respondents: 704,422.

Frequency of Response: 1.

Average Burden per Response: 1 minute.

Estimated Annual Burden: 11,740 hours.

2. Missing and Discrepant Wage Reports Letter and Questionnaire—26 CFR 31.6051-2-0960—0432. Each year employers report the wage amounts they paid their employees to the Internal Revenue Service (IRS) for tax purposes, and separately to SSA for retirement and disability coverage purposes. These reported amounts should equal each other; however, each year some of the employer wage reports that SSA receives are less than the wage amounts reported to the IRS. SSA attempts to ensure that employees receive full credit for the wages that they have earned through the use of the forms SSA-L93-SM; SSA-L94-SM; SSA-95-SM and SSA-97-SM. Respondents are employers who reported less wage amounts to SSA than they reported to the IRS.

Type of Request: Revision of an OMB-approved information collection.

Number of Respondents: 360,000.

Frequency of Response: 1.

Average Burden per Response: 30 minutes.

Estimated Annual Burden: 180,000 hours.

Dated: September 14, 2007.
Elizabeth A. Davidson,
Reports Clearance Officer, Social Security Administration.

[FR Doc. E7-18538 Filed 9-19-07; 8:45 am]

BILLING CODE 4191-02-P